DEPARTMENT OF HEALTH AND HUMAN SERVICES

Administration for Children and Families

Submission for OMB Review; Comment Request

Title: 45 CFR 1309 Head Start Facilities Purchase, Major Renovation and Construction.

OMB No.: 0970-0193.

Description: The Head Start Bureau is proposing to renew, without changes, 45 CFR part 1309. This rule contains the administrative requirements for Head Start and Early Head Start grantees who apply for funding to purchase, renovate, or construct Head Start program facilities. The rule ensures that grantees use standard business practices when acquiring real property and that Federal interest is preserved in properties acquired with public funds. The rule further ensures compliance with all other Federal statutes applicable to the expenditure of Federal funds when acquiring real property.

Respondents: Head Start and Early Head Start grantees and delegate agencies.

Annual Burden Estimates
Instrument | Number of respondents | Number of responses per respondent | Average burden hours per response | Total burden hours
Regulation | 200 | 1 | 41 | 8,200.

Estimated Total Annual Burden Hours: 8,200

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: June 8, 2006.
Robert Sargis,
Reports Clearance Officer.

[FR Doc. 06-5437 Filed 6-14-06; 8:45 am]

BILLING CODE 4184-01-M